DEPARTMENT OF LABOR

Employment and Training Administration

[TA-W-85,178]

Cardinal Health 200, LLC, Medical—Presource Manufacturing, Including On-Site Leased Workers From Adecco Staffing, USA and Baron, Including Workers Whose Unemployment Insurance (UI) Wages Were Reported Through Medical Concepts Development, Woodbury, Minnesota; Amended Certification Regarding Eligibility To Apply for Worker Adjustment Assistance and Alternative Trade Adjustment Assistance

In accordance with Section 223 of the Trade Act of 1974, as amended (“Act”), 19 U.S.C. 2273, the Department of Labor issued a Certification of Eligibility to Apply for Worker Adjustment Assistance and Alternative Trade Adjustment Assistance on April 23, 2014, applicable to workers and former workers of Cardinal Health 200, LLC, Medical—Presource Manufacturing, including on-site leased workers from Adecco Staffing, USA, including workers whose unemployment insurance (UI) wages were reported through Medical Concepts Development, Woodbury, Minnesota (subject firm). The workers are engaged in activities related to the production of latex-free surgical incise and fluid control drapes, and other OEM medical products. The Notice was published in the Federal Register on May 12, 2014 (79 FR 27001).

At the request of the State of Minnesota, the Department reviewed the certification for workers of the subject firm.

New information from the company shows that workers leased from Baron were employed on-site at the Woodbury, Minnesota location of Cardinal Health 200, LLC, Medical—Presource Manufacturing, including workers whose unemployment insurance (UI) wages were reported through Medical Concepts Development. The Department has determined that these workers were sufficiently under the control of the subject firm to be considered leased workers.

The intent of the Department's certification is to include all workers of the subject firm who were adversely affected by a shift in production to a free-trade country of latex-free surgical incise and fluid control drapes, and other OEM medical products.

Based on these findings, the Department is amending this certification to include workers leased from Baron working on-site at the Woodbury, Minnesota location of the subject firm.

The amended notice applicable to TA-W-85,178 is hereby issued as follows:

All workers from Cardinal Health 200, LLC, Medical—Presource Manufacturing, including on-site leased workers from Adecco Staffing, USA and Baron, including workers whose unemployment insurance (UI) wages were reported through Medical Concepts Development, Woodbury, Minnesota, who became totally or partially separated from employment on or after March 21, 2013, through April 23, 2016, are eligible to apply for adjustment assistance under Chapter 2 of Title II of the Trade Act of 1074, as amended, and are also eligible to apply for alternative trade adjustment assistance under Section 246 of the Trade Act of 1974, as amended.

Signed at Washington, DC, this 30th day of May 2014.
Del Min Amy Chen,
Certifying Officer, Office of Trade Adjustment Assistance.

[FR Doc. 2014-13878 Filed 6-12-14; 8:45 am]

BILLING CODE 4510-FN-P